DEPARTMENT OF TRANSPORTATION

Federal Aviation Administration

14 CFR Part 71

[Airspace Docket No. 99-AWA-3]

RIN 2120-AA66

Revocation of the Sacramento McClellan Air Force Base (AFB) Class C Airspace Area, Establishment of the Sacramento McClellan AFB Class E Surface Area; and Modification of the Sacramento International Airport Class C Airspace Area; CA

AGENCY: Federal Aviation Administration (FAA), DOT.

ACTION: Final rule.

SUMMARY: This final rule revokes the Sacramento McClellan AFB, CA, Class C airspace area, establishes Class E airspace at Sacramento McClellan AFB, CA, and modifies the Sacramento International Airport, CA, Class C airspace area. Specifically, the FAA is revoking the Sacramento McClellan AFB Class C airspace area due to a reduction in the number of aircraft operations at McClellan AFB. This action also establishes a Class E surface area to provide controlled airspace for the protection of instrument approach operations to McClellan AFB. In addition, this action modifies the Sacramento International Airport Class C airspace area to provide additional airspace for the management of aircraft operations to and from the Sacramento International Airport. The FAA is making these changes to enhance safety, reduce the risk of midair collision, and improve the management of aircraft operations in the Sacramento terminal airspace area.

EFFECTIVE DATE: 0901 UTC, September 7, 2000.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

As announced in the Federal Register on October 13, 1998 (63 FR 54637), a public meeting was held on November 17, 1998, at Sacramento McClellan AFB, CA. The purpose of this meeting was to provide airspace users with an opportunity to provide their views, recommendations and comments regarding the FAA's planned modification to the Sacramento, CA, terminal airspace area. Those attending the meeting expressed general support for the planned modification.

On December 2, 1999, the FAA published a notice (64 FR 67525) proposing to revoke the McClellan AFB Class C airspace area, establish Class E airspace in its place, and modify the Sacramento International Class C airspace area. Interested parties were invited to participate in this rulemaking effort by submitting comments on the proposal to the FAA. In the ensuing comment period, which closed on January 17, 2000, the FAA received no comments on the proposed action.

The Rule

This action amends 14 CFR part 71 by revoking the Sacramento McClellan AFB, CA, Class C airspace area and establishing a Class E surface area at Sacramento McClellan AFB, CA. The FAA is taking this action because the number of aircraft operations at McClellan AFB have decreased significantly as a result of the permanent closure of the airport traffic control tower (ATCT). The United States Air Force closed McClellan AFB tower on October 1, 1998, as part of its Base Realignment and Closing process. McClellan AFB is scheduled for closure July 2001. Remaining aircraft operations are expected to decline with the closure of McClellan AFB. Thus, the FAA is replacing the Sacramento McClellan AFB Class C airspace area with a Class E surface area to provide controlled airspace for the protection of instrument approach operations to McClellan AFB.

This amendment to 14 CFR part 71 also modifies the Sacramento International Airport Class C airspace area by expanding its eastern boundary. This modification will ensure that the airspace overlying the Rio Linda airport, located in the revoked McClellan AFB Class C airspace area, retains Class C airspace protection. This is necessary to maintain the safety level previously afforded by part of the McClellan Class C airspace area.

The FAA has determined that this regulation only involves an established body of technical regulations for which frequent and routine amendments are necessary to keep them operationally current. Therefore, this (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The coordinates for this airspace docket are based on North American Datum 83. Class C and Class E airspace designations are published, respectively, in paragraphs 4000 and 6002 of FAA Order 7400.9G, dated September 1, 1999, and effective September 16, 1999, which is incorporated by reference in 14 CFR 71.1. The Class C and E airspace designations listed in this document will be published subsequently in the Order.

List of Subjects in 14 CFR Part 71

Airspace, Incorporation by reference, Navigation (air).

Adoption of the Amendment

In consideration of the foregoing, the Federal Aviation Administration amends part 71 of Title 14, Code of Federal Regulations as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 4000—Subpart C—Class C Airspace.

* * * * *

AWP CA C Sacramento, McClellan AFB, CA [Removed]

* * * * *

AWP CA C Sacramento International Airport, CA [Revised]

Sacramento International Airport, CA

(Lat. 38°41′44″ N., long. 121°35′27″ W.)

Riego Flight Strip

(Lat. 38°45′15″ N., long. 121°33′47″ W.)

Natomas Field

(Lat. 38°38′18″ N., long. 121°30′55″ W.)

That airspace extending upward from the surface to and including 4,100 feet MSL within a 5-mile radius of the Sacramento International Airport, excluding that airspace within a 2-mile radius of Riego Flight Strip, and that airspace within a 2-mile radius of Natomas Field, and that airspace east of the 002° bearing from Natomas Field; and that airspace extending upward from 1,600 feet MSL to 4,100 feet MSL within a 10-mile radius of Sacramento International Airport.

* * * * *

Paragraph 6002—Class E Airspace Designated as Surface Areas.

* * * * *

AWP CA E2 Sacramento, McClellan AFB, CA [New]

Sacramento, McClellan AFB, CA

(Lat. 38°40′04″ N., long. 121°24′02″ W.)

That airspace extending upward from the surface within a 4.5-mile radius of McClellan AFB excluding that airspace within the Sacramento International Airport Class C surface area.

* * * * *

Issued in Washington, DC on March 20, 2000.
Reginald C. Matthews,
Manager, Airspace and Rules Division.

[FR Doc. 00-7494 Filed 3-24-00; 8:45 am]

BILLING CODE 4910-13-P